DEPARTMENT OF ENERGY

Federal Energy Regulatory Commission

[Project No. 14587-000]

Vortex Hydro Energy; Notice of Preliminary Permit Application Accepted for Filing and Soliciting Comments, Motions To Intervene, and Competing Applications

On February 21, 2014, Vortex Hydro Energy filed an application for a preliminary permit, pursuant to section 4(f) of the Federal Power Act (FPA), proposing to study the feasibility of the St. Clair River Hydrokinetic (St. Clair River Project or project) to be located on St. Clair River, in the city of Port Huron, St. Clair County, Michigan. The sole purpose of a preliminary permit, if issued, is to grant the permit holder priority to file a license application during the permit term. A preliminary permit does not authorize the permit holder to perform any land-disturbing activities or otherwise enter upon lands or waters owned by others without the owners' express permission.

The proposed project would consist of the following: (1) Three new 20-foot-long by 32-foot-wide by 27-foot-high oscylators, each containing four horizontal cylinders with a combined nameplate capacity of 33 kilowatts (kW), for a project total of 100 kW of installed capacity; (2) twelve 10-kW generator units; (3) a traditional direct current to alternating current inverter for power connection to the grid; (4) three 500-foot-long, 1-kilovolt (kV) to 3-kV underwater transmission lines; and (5) appurtenant facilities. The estimated annual generation of the St. Clair River Project would be 840 megawatt-hours.

Applicant Contact: Michael M. Bernitsas, Vortex Hydro Energy, 330 East Liberty, Lower Level, Ann Arber, MI 48104; phone: (734) 253-2451.

FERC Contact: Tyrone A. Williams; phone: (202) 502-6331, email: tyrone.williams@ferc.gov.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp.

Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14587-000.

More information about this project, including a copy of the application, can be viewed or printed on the “eLibrary” link of Commission's Web site at http://www.ferc.gov/docs-filing/elibrary.asp. Enter the docket number (P-14587) in the docket number field to access the document. For assistance, contact FERC Online Support.

Dated: May 6, 2014.
Kimberly D. Bose,
Secretary.

[FR Doc. 2014-10884 Filed 5-12-14; 8:45 am]

BILLING CODE 6717-01-P